DEPARTMENT OF LABOR

Office of the Secretary

Bureau of International Labor Affairs; U.S. National Administrative Office; North American Agreement on Labor Cooperation; Hearing on U.S. Submission #2003-01

AGENCY: Office of the Secretary, Labor.

ACTION: Notice of hearing.

SUMMARY: The purpose of this notice is to announce a hearing, open to the public, on U.S. Submission #2003-01.

U.S. Submission #2003-01 was filed with the U.S. National Administrative Office (NAO) on September 30, 2003, by the U.S.-based United Students Against Sweatshops (USAS), the Mexico-based Centro de Apoyo al Trabajador (CAT) and the Canada-based Maquiladora Solidarity Network. The submitters filed an amendment to the submission on November 10, 2003. The submission was accepted for review by the NAO on February 5, 2004, and a notice of acceptance for review was published in the Federal Register, 69 FR 6691 (February 11, 2004).

Article 16(3) of the North American Agreement on Labor Cooperation (NAALC) provides for the review of labor law matters in Canada and Mexico by the NAO in accordance with domestic procedures, and Section H of the NAO procedural guidelines, 59 FR 16660 (April 7, 1994), requires a hearing on the submission unless the Secretary determines that a hearing would not be a suitable method for carrying out the NAO's responsibilities.

DATES: The hearing will be held on April 1, 2004, commencing at 9 a.m. Persons desiring to present oral testimony at the hearing must submit a request in writing, along with a written statement or brief describing the information to be presented or the position to be taken.

ADDRESSES: The hearing will be held in Room N4437A-D, fourth (4th) floor, at the U.S. Department of Labor, 200 Constitution Avenue, NW., Washington, DC 20210. Written statements or briefs and requests to present oral testimony may be mailed, e-mailed (usnao@dol.gov), or hand delivered to the U.S. National Administrative Office, U.S. Department of Labor, 200 Constitution Avenue, NW., Room S-5205, Washington, DC 20210. Due to processing delays for regular mail resulting from increased security procedures, it is strongly recommended that all correspondence be submitted electronically (usnao@dol.gov) or be hand delivered. Requests to present oral testimony and written statements or briefs must be received by the NAO no later than close of business March 22, 2004.

FOR FURTHER INFORMATION CONTACT: Lewis Karesh, Acting Secretary, U.S. National Administrative Office, U.S. Department of Labor, 200 Constitution Avenue, NW., Room S-5205, Washington, DC 20210. Telephone: (202) 693-4900 (this is not a toll-free number).

SUPPLEMENTARY INFORMATION:

I. Nature and Conduct of Hearing

As set out in the notice published in the Federal Register on February 11, 2004, the objective of the review of the submission will be to gather information to assist the NAO to better understand and publicly report on issues raised in the submission, including freedom of association and protection of the right to organize, the right to bargain collectively, minimum employment standards, occupational safety and health, and access to fair, equitable and transparent labor tribunal proceedings, as they relate to the Government of Mexico's compliance with the obligations set forth in the NAALC.

The hearing will be conducted by the Secretary of the NAO or the Secretary's designee. It will be open to the public. All proceedings will be conducted in English, with simultaneous interpretation in English and Spanish provided as appropriate and necessary. The public files for the submission, including written statements, briefs and requests to present oral testimony, will be made a part of the appropriate hearing record. The public files will also be available for inspection at the NAO prior to the hearing.

The hearing will be transcribed. A transcript of the proceeding will be made available for inspection, as provided for in Section E of the NAO procedural guidelines, or may be purchased from the reporting company.

Disabled persons should contact the Secretary of the NAO no later than March 22, 2004 if special accommodations are needed.

II. Written Statements or Briefs and Requests To Present Oral Testimony

Written statements or briefs shall provide a description of the information to be presented or position taken and shall be legibly typed or printed. Requests to present oral testimony shall include the name, address, and telephone number of the witness, the organization represented, if any, and any other information pertinent to the request. If not filed electronically, five copies of a statement or brief and a single copy of a request to present oral testimony shall be submitted to the NAO at the time of filing.

No request to present oral testimony will be considered unless accompanied by a written statement or brief. A request to present oral testimony may be denied if the written statement or brief suggests that the information sought to be provided is unrelated to the review of the submission or for other appropriate reasons. The NAO will notify each requester of the disposition of the request to present oral testimony.

In presenting testimony, the witness should summarize the written statement or brief, may supplement the written statement or brief with relevant information, and should be prepared to answer questions from the Secretary of the NAO or the Secretary's designee. Oral testimony will ordinarily be limited to a ten-minute presentation, not including the time for questions. Persons desiring more than ten minutes for their presentation should so state in the request, setting out reasons why additional time is necessary.

The requirements relating to the submission of written statements or briefs and requests to present oral testimony may be waived by the Secretary of the NAO for reasons of equity and public interest.

Signed at Washington, DC on February 25, 2004.
Lewis Karesh,
Acting Secretary, U.S. National Administrative Office.

[FR Doc. 04-4550 Filed 3-1-04; 8:45 am]

BILLING CODE 4510-28-P